NATIONAL AERONAUTICS AND SPACE ADMINISTRATION

[Notice (04-029)]

Notice of Prospective Patent License

AGENCY: National Aeronautics and Space Administration.

ACTION: Notice of prospective patent license.

SUMMARY: NASA hereby gives notice that CogniTek Management Systems, Inc., of Northfield, Illinois, has applied for an exclusive license to practice the inventions described and claimed in U.S. Patent No. 6,374,630, entitled “Carbon Dioxide Absorption Heat Pump,” which is assigned to the United States of America as represented by the Administrator of the National Aeronautics and Space Administration. Written objections to the prospective grant of a license should be sent to the Patent Counsel at the NASA Management Office—JPL.

DATES: Responses to this notice must be received by April 5, 2004.

FOR FURTHER INFORMATION CONTACT: Patent Counsel, NASA Management Office—JPL, 4800 Oak Grove Drive, Mail Station 180-200, Pasadena, CA 91109-8099.

Dated: February 19, 2004.
Robert M. Stephens,
Deputy General Counsel.

[FR Doc. 04-4849 Filed 3-3-04; 8:45 am]

BILLING CODE 7510-01-M